SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before February 12, 2007.

ADDRESSES: Send all comments regarding whether this information collection is necessary for the proper performance of the function of the agency, whether the burden estimates are accurate, and if there are ways to minimize the estimated burden and enhance the quality of the collection, to Veronica Dymond, Public Affairs Support Specialist, Office of Communications and Public Liaison, Small Business Administration, 409 3rd Street, SW., 7th Floor, Wash., DC 20416.

FOR FURTHER INFORMATION CONTACT: Veronica Dymond, Public Affairs Support Specialist, Office of Communications and Public Liaison 202-205-6746 veronica.dymond@sba.gov; Curtis B. Rich, Management Analyst, 202-205-7030 curtis.rich@sba.gov.

SUPPLEMENTARY INFORMATION: 15 U.S.C.A. 637(b)(1)(A)(iv) authorizes the Administrator of the U.S. Small Business Administration (SBA) to recognize achievements of small businesses through appropriate events and activities. In recognition of the small business community's contributions to the nation's economy, the President of the United States designates one week each year as Small Business Week. Leading up to that week, the U.S. Small Business Administration seeks nominations for various recognition awards honoring the nation's small business owners and entrepreneurs, small business advocates, and small businesses. The information collected through the proposed Information Form will be used to identify an actual or apparent conflict of interest, to verify the accuracy of the information submitted with the nomination, and to determine whether a nominee is eligible for a recognition award.

Title: “Small Business Week Award Nominees.”

Description of Respondents: Respondents are entrepreneurs and small business, owners nominated for SBA's National Small, Business Week awards.

Form No: N/A.

Annual Responses: 600.

Annual Burden: 450.

Jacqueline White,
Chief, Administrative Information Branch.

[FR Doc. E6-21194 Filed 12-12-06; 8:45 am]

BILLING CODE 8025-01-P